CORPORATION FOR NATIONAL AND COMMUNITY SERVICE

Availability of Funds for Grants to Support the Martin Luther King, Jr. Service Day Initiative; Correction

AGENCY: Corporation for National and Community Service.

ACTION: Notice; correction.

SUMMARY: The Corporation for National and Community Service published a document in the Federal Register of August 1, 2000, grants to support service opportunities in conjunction with the federal legal holiday honoring the birthday of Martin Luther King, Jr. on January 15, 2001. The document contained an incorrect address.

FOR FURTHER INFORMATION CONTACT: For further information, contact Rhonda Taylor, (202) 606-5000, ext. 282. You may request this notice in an alternative format for the visually impaired by calling (202) 606-5000, ext. 262. The Corporation's T.D.D. number is (202) 565-2799 and is operational between the hours of 9 a.m. and 5 p.m. local time in Washington, D.C.

Correction

In the Federal Register of August 1, 2000, in FR Doc. 00-19288, on page 46889, in the first column, correct the zip code for the Corporation's office in Arizona to read “85004-2190” and in the second column, correct the telephone number for the Corporation's office in California to read “(310) 235-7421.”

Dated: August 7, 2000.
Gary Kowalczyk,
Coordinator of National Service Programs.

[FR Doc. 00-20355 Filed 8-10-00; 8:45 am]

BILLING CODE 6050-28-U